DEPARTMENT OF ENERGY

Federal Energy Regulatory Commission

[Docket No. RM21-17-000]

Building for the Future Through Electric Regional Transmission Planning and Cost Allocation and Generator Interconnection; Notice on Requests or Extension of Time

On May 10, 2022, the ISO/RTO Council (IRC),¹ Edison Electric Institute, American Public Power Association, and the National Rural Electric Cooperative Association (together, Joint Movants) filed a motion requesting a 15-day extension of time to submit initial comments in response to the Notice of Proposed Rulemaking (NOPR) in this proceeding,² from July 18, 2022 to August 2, 2022, and an extension of the reply comment deadline from August 17, 2022 to September 8, 2022. Joint Movants state that the responses to the NOPR will require a great deal of internal consideration for each trade association and IRC member to provide quality responses to the Commission. Moreover, Joint Movants assert that the industry as a whole would benefit from a modest amount of additional time to provide thoughtful and constructive comments in response to the NOPR in order for the Commission to have an adequate record upon which to rule. The MISO South Regulators ³ filed comments supporting Joint Movants' motion.

¹ IRC is comprised of the following independent system operators (ISOs) and regional transmission organizations (RTOs): Alberta Electric System Operator (AESO); California Independent System Operator Corporation; Electric Reliability Council of Texas, Inc. (ERCOT); Independent Electricity System Operator of Ontario, Inc. (IESO); ISO New England Inc.; Midcontinent Independent System Operator, Inc.; New York Independent System Operator, Inc.; PJM Interconnection, L.L.C.; and Southwest Power Pool, Inc. IRC states that AESO, ERCOT, and IESO do not join its motion.

² Building for the Future Through Electric Regional Transmission Planning and Cost Allocation and Generator Interconnection, 179 FERC ¶ 61,028 (2022).

³ For purposes of their pleading, the MISO South Regulators consist of the Arkansas Public Service Commission, the Louisiana Public Service Commission, the Council for the City of New Orleans, and the Mississippi Public Service Commission and Public Utilities Staff.

On May 19, 2022, the National Association of Regulatory Utility Commissioners (NARUC) filed a motion requesting a 30-day extension of time to submit initial comments in this proceeding, from July 18, 2022 to August 17, 2022. NARUC states that the current initial comment deadline of July 18, 2022 is at the beginning of NARUC's Summer Policy Summit, during which the Commission and NARUC will hold another meeting of the Joint Federal-State Task Force on Electric Transmission (Task Force). NARUC states that the state members of the Task Force spend a great deal of time preparing for the Task Force meetings, and it will be difficult for them to balance preparing for the Task Force meeting with developing comments in this proceeding, in addition to their primary responsibilities to their public utility commissions. Further, NARUC states that NARUC meetings serve as an opportunity for their members to discuss policy matters and develop their advocacy positions. Western State Regional Representatives ⁴ filed comments supporting NARUC's motion and request that the Commission adjust the reply comment period accordingly.

⁴ Western State Regional Representatives are comprised of Western Representatives to the Task Force, Chair of the Committee Regional on Electric Power Cooperation, and Executive Director of the Western Interstate Energy Board.

Upon consideration, notice is hereby given that the deadline to submit initial comments in response to the NOPR in this proceeding is extended from July 18, 2022 to and including August 17, 2022. Additionally, notice is hereby given that the deadline to submit reply comments is extended from August 17, 2022 to and including September 19, 2022.

Dated: May 25, 2022.
Kimberly D. Bose,
Secretary.

[FR Doc. 2022-11775 Filed 6-1-22; 8:45 am]

BILLING CODE 6717-01-P